DEPARTMENT OF COMMERCE

National Oceanic and Atmospheric Administration

[Docket No. 070817470-7855-03; I.D. 051906D]

RIN 0648-ZB83

Availability of Grant Funds for Fiscal Year 2008

AGENCY: National Oceanic and Atmospheric Administration (NOAA), Department of Commerce (DOC).

ACTION: Notice.

SUMMARY: NOAA publishes this notice to supplement the agency's solicitation for applications published on July 2, 2007 in an action entitled “Omnibus Notice Announcing the Availability of Grant Funds for Fiscal Year 2008”. This notice announces 11 additional programs that are soliciting applications for FY 08 funding.

DATES: Proposals must be received by the date and time specified under each program listed in the SUPPLEMENTARY INFORMATION section of this document.

ADDRESSES: Proposals must be submitted to the program address listed in the SUPPLEMENTARY INFORMATION section of this document. NOAA's discretionary grant fund notices may be found on the internet at Grants.gov. The URL for Grants.gov is http://www.grants.gov.

FOR FURTHER INFORMATION CONTACT: For those without Internet access request a copy of the full funding opportunity announcement and/or application kit, from the person listed as the information contact under each program.

SUPPLEMENTARY INFORMATION: Applicants must comply with all requirements contained in the Federal Funding Opportunity announcement for each of the programs listed in this omnibus notice. These Federal Funding Opportunities are available at http://www.grants.gov.

The list of grant opportunities under NOAA Project Competitions (below) describe the basic information and requirements for the competitive grant/cooperative agreement programs offered by NOAA. These programs are open to anyone who meets the eligibility criteria specified under each grant. To be considered for an award in a competitive grant/cooperative agreement program, eligible applicants must submit a complete and responsive application to the appropriate address by the deadline specified in this notice. An award is made upon conclusion of the evaluation and selection process for the respective program.

Table of Contents

I. Background

II. NOAA Project Competitions

National Marine Fisheries Service (NMFS)

1. FY08 Hawaii Seafood Program

2. Proactive Species Conservation Program

National Ocean Service (NOS)

1. FY 2008 Gulf of Mexico Alliance Governors' Action Plan Implementation

2. FY08 Bay Watershed Education and Training Program, Adult and Community

Watershed Education in the Monterey Bay

3. NOAAs National Height Modernization Program

National Weather Service (NWS)

1. Hydrologic Research

2. National Weather Service MSI Program

Oceanic and Atmospheric Research (OAR)

1. 2008 Regional Research, Information Planning and Coordination

2. Ballast Water Management Demo (RDTE Facility)

3. Ballast Water Management Demonstration Program (Technologies and Practices)

Office of the Under Secretary (USEC)

1. Environmental Literacy Grants for Formal K-12 Education

III. Classification

IV. NOAA Project Competitions Listed by NOAA Mission Goals

1. Protect, Restore and Manage the Use of Coastal and Ocean Resources Through Ecosystem-Based Management

Summary Description: Coastal areas are among the most developed in the Nation.

More than half the population lives on less than one-fifth of the land in the contiguous United States. Furthermore, the employment rate in near shore areas is growing three times faster than the population. Coastal and marine waters support over 28 million jobs and provide a tourism destination for nearly 90 million Americans a year. The value of the ocean economy to the United States is over $115 billion. The value added annually to the national economy by the commercial and recreational fishing industry alone is over $48 billion. U.S. aquaculture sales total almost $1 billion annually. With its Exclusive Economic Zone of 3.4 million square miles, the United States manages the largest marine territory of any nation in the world.

Funded proposals should help achieve the following outcomes:

1. Healthy and productive coastal and marine ecosystems that benefit society.

2. A well-informed public that acts as a steward of coastal and marine ecosystems.

Program Names:

1. Ballast Water Management Demonstration Program (Technologies and Practices).

2. 2008 Regional Research, Information Planning and Coordination.

3. Proactive Species Conservation Program.

4. FY08 Hawaii Seafood Program.

5. Ballast Water Management Demo (RDTE Facility).

6. NOAAs National Height Modernization Program.

7. FY08 Bay Watershed Education and Training Program, Adult and Community Watershed Education in the Monterey Bay.

2. Support the Nation's Commerce With Information for Safe, Efficient, and Environmentally Sound Transportation

Summary Description: Safe and efficient transportation systems are crucial to the U.S. economy. The U.S. marine transportation system ships over 95 percent of the tonnage and more than 20 percent by value of foreign trade through U.S. ports, including 48 percent of the oil needed to meet America's energy demands. At least $4 billion is lost annually due to economic inefficiencies resulting from weather related air-traffic delays. Improved surface weather forecasts and specific user warnings would reduce the 7,000 weather related fatalities and 800,000 injuries that occur annually from crashes on roads and highways. The injuries, loss of life, and property damage from weather related crashes cost an average of $42 billion annually. We provide information, services, and products for transportation safety and for increased commerce on roads, rails, and waterways. We will improve the accuracy of our information for marine, aviation, and surface weather forecasts, the availability of accurate and advanced electronic navigational charts, and the delivery of real-time oceanographic information. We seek to provide consistent, accurate, and timely positioning information that is critical for air, sea, and surface transportation. We will respond to hazardous material spills and provide search and rescue routinely to save lives and money and to protect the coastal environment. We will work with port and coastal communities and with Federal and state partners to ensure that port operations and development proceed efficiently and in an environmentally sound manner. We will work with the Federal Aviation Administration and the private sector to reduce the negative impacts of weather on aviation without compromising safety. Because of increased interest by the public and private sectors, we also will expand weather information for marine and surface transportation to enhance safety and efficiency.

Funded proposals should help achieve the following outcomes:

1. Safe, secure, efficient, and seamless movement of goods and people in the U.S. transportation system.

2. Environmentally sound development and use of the U.S. transportation system.

Program Names:

1. Ballast Water Management Demonstration Program (Technologies and Practices).

2. 2008 Regional Research, Information Planning and Coordination.

3. Ballast Water Management Demo (RDTE Facility).

4. NOAAs National Height Modernization Program.

3. Serve Society's Needs for Weather and Water Information

Summary Description: Floods, droughts, hurricanes, tornadoes, tsunamis, wildfires, and other severe weather events cause $11 billion in damages each year in the United States. Weather is directly linked to public health and safety, and nearly one-third of the U.S. economy (about $3 trillion) is sensitive to weather and climate. With so much at stake, NOAA's role in understanding, observing, forecasting, and warning of environmental events is expanding. With our partners, we seek to provide decision makers with key observations, analyses, predictions, and warnings for a range of weather and water conditions, including those related to water supply, air quality, space weather, and wildfires. Businesses, governments, and nongovernmental organizations are getting more sophisticated about how to use this weather and water information to improve operational efficiencies, to manage environmental resources, and to create a better quality of life. On average, hurricanes, tornadoes, tsunamis, and other severe weather events cause $11 billion in damages per year. Weather, including space weather, is directly linked to public safety and about one-third of the U.S. economy (about $3 trillion) is weather sensitive. With so much at stake, NOAA's role in observing, forecasting, and warning of environmental events is expanding, while economic sectors and its public are becoming increasingly sophisticated at using NOAA's weather, air quality, and water information to improve their operational efficiencies and their management of environmental resources, and quality of life.

Funded proposals should help achieve the following outcomes:

1. Reduced loss of life, injury, and damage to the economy.

2. Better, quicker, and more valuable weather and water information to support improved decisions.

3. Increased customer satisfaction with weather and water information and services.

Program Names:

1. FY 2008 Gulf of Mexico Alliance Governors' Action Plan Implementation.

2. 2008 Regional Research, Information Planning and Coordination.

3. National Weather Service MSI Program.

4. Hydrologic Research.

5. NOAAs National Height Modernization Program.

4. Understand Climate Variability and Change To Enhance Society's Ability To Plan and Respond

Summary Description: Climate shapes the environment, natural resources, economies, and social systems that people depend upon worldwide. While humanity has learned to contend with some aspects of climate's natural variability, major climatic events, combined with the stresses of population growth, economic growth, public health concerns, and land-use practices, can impose serious consequences on society. The 1997-98 El Nino, for example, had a $25 billion impact on the U.S. economy—property losses were $2.6 billion and crop losses approached $2 billion. Long-term drought leads to increased and competing demands for fresh water with related effects on terrestrial and marine ecosystems, agricultural productivity, and even the spread of infectious diseases. Decisions about mitigating climate change also can alter economic and social structures on a global scale. We can deliver reliable climate information in useful ways to help minimize risks and maximize opportunities for decisions in agriculture, public policy, natural resources, water and energy use, and public health. We continue to move toward developing a seamless suite of weather and climate products. The Climate Goal addresses predictions on time scales of up to decades or longer.

Funded proposals should help achieve the following outcomes:

1. A predictive understanding of the global climate system on time scales of weeks to decades with quantified uncertainties sufficient for making informed and reasoned decisions.

2. Climate-sensitive sectors and the climate-literate public effectively incorporating NOAA's climate products into their plans and decisions.

Program Names:

1. 2008 Regional Research, Information Planning and Coordination.

2. National Weather Service MSI Program.

3. NOAAs National Height Modernization Program.

4. Environmental Literacy Grants for Formal K-12 Education.

5. Provide Critical Support for NOAA's Mission

Summary Description: Strong, effective, and efficient support activities are necessary for us to achieve our Mission Goals. Our facilities, ships, aircraft, environmental satellites, dataprocessing systems, computing and communication systems, and our approach to management provide the foundation of support for all of our programs. This critical foundation must adapt to evolving mission needs and, therefore, is an integral part of our strategic planning. It also must support U.S. homeland security by maintaining continuity of operations and by providing NOAA services, such as civil alert relays through NOAA Weather Radio and air dispersion forecasts, in response to national emergencies. NOAA ships, aircraft, and environmental satellites are the backbone of the global Earth observing system and provide many critical mission support services. To keep this capability strong and current with our Mission Goals, we will ensure that NOAA has adequate access to safe and efficient ships and aircraft through the use of both NOAA platforms and those of other agency, academic, and commercial partners. We will work with academia and partners in the public and private sectors to ensure that future satellite systems are designed, developed, and operated with the latest technology. Leadership development and program support are essential for achieving our Mission Goals. We must also commit to organizational excellence through management and leadership across a “corporate” NOAA. We must continue our commitment to valuing NOAA's diverse workforce, including effective workforce planning strategies designed to attract, retain and develop competencies at all levels of our workforce. Through the use of business process re-engineering, we will strive for state-of-the-art, value-added financial and administrative processes. NOAA will ensure state-of-the-art and secure information technology and systems. By developing long-range, comprehensive facility planning processes, NOAA will be able to ensure right-sized, cost-effective, and safe facilities.

Funded proposals should help achieve the following outcomes:

1. A dynamic workforce with competencies that support NOAA's mission today and in the future.

Program Names:

1. No programs are currently soliciting proposals for this mission goal.

I. Background

In this notice, NOAA announces that 11 programs are making funds available for financial assistance awards. Each of the following grant opportunities provide: A description of the program, funding availability, statutory authority, catalog of federal domestic assistance (CFDA) number, application deadline, address for submitting proposals, information contacts, eligibility requirements, cost sharing requirements, and intergovernmental review under Executive Order 12372. [Interested applicants should consult the July 2, 2007, in an action entitled “Omnibus Notice Announcing the Availability of Grant Funds for Fiscal Year 2008” (72 FR 36244) notice for the selection criteria, evaluation criteria, and other requirements for submitting an application.]

II. NOAA Project Competitions

National Marine Fisheries Service (NMFS)

FY08 Hawaii Seafood Program

Summary Description: NMFS is soliciting competitive applications for the FY08 Hawaii Seafood Program. The Hawaii Seafood Program is proposed for an effort to help strengthen and sustain the economic viability of Hawaii's fishing and seafood industry through activities that promote Hawaii fisheries products as high quality and safe domestic seafood produced by a responsible and well-managed fishery. Projects may request support for cooperative seafood safety research, technical assistance, and/or seafood education.

Funding Availability: Total funding available under this notice is anticipated to be approximately $700,000. Actual funding availability for this program is contingent upon Fiscal Year 2008 Congressional appropriations. Proposals in any amount may be submitted, but awards in excess of $250,000 are unlikely. Award amounts will be determined by the number of proposals selected and the amount of available funds. There is no set minimum or maximum amount, within the available funding, for any award. There is also no limit on the number of applications that can be submitted by the same applicant; however, multiple applications submitted by the same applicant must clearly identify different projects. If an application for a financial assistance award is selected for funding, NOAA/NMFS has no obligation to provide any additional funding in connection with that award in subsequent years. Notwithstanding verbal or written assurance that may have been received, pre-award costs are not allowed under the award unless approved by the NOAA Grants Officer.

Statutory Authority: The statutory authority for the Hawaii Seafood Program is 15 U.S.C. 713c-3(d).

Catalog of Federal Domestic Assistance (CFDA) Number: 11.452, Unallied Industry Projects.

Application Deadline: Proposals must be received by 5 p.m. Hawaii Standard Time on January 30, 2008.

Address for Submitting Proposals: Proposals should be submitted through Grants.gov. For those applicants without internet access, proposals should be submitted to NOAA Federal Program Officer, Pacific Islands Regional Office, 1601 Kapiolani Blvd., Suite 1110, Honolulu, Hawaii 96814.

Information Contacts: If you have any questions regarding this proposal solicitation, please contact Scott W.S. Bloom at the NOAA/NMFS Pacific Islands Regional Office, 1601 Kapiolani Blvd., Honolulu, Hawaii 96814, by phone at 808-944-2218, or by e-mail at Scott.Bloom@noaa.gov.

Eligibility: Eligible applicants are individuals, institutions of higher education, other nonprofits, commercial organizations, international organizations, foreign governments, organizations under the jurisdiction of foreign governments, and state, local and Indian tribal governments. Federal agencies, or employees of Federal agencies are not eligible to apply. The Department of Commerce/National Oceanic and Atmospheric Administration (DOC/NOAA) is strongly committed to broadening the participation of historically black colleges and universities, Hispanic serving institutions, tribal colleges and universities, and institutions that work in undeserved areas. The Hawaii Seafood Program encourages proposals involving any of the above institutions.

Cost Sharing Requirements: No cost sharing or matching is required under this program.

Intergovernmental Review: Applications under this program are subject to Executive Order 12372, “Intergovernmental Review of Federal Programs”.

Proactive Species Conservation Program

Summary Description: The Proactive Species Conservation Program supports voluntary conservation efforts designed to conserve marine and anadromous species before they reach the point at which listing as threatened or endangered under the Endangered Species Act (ESA) becomes necessary. Such proactive conservation efforts can serve as an efficient, non-regulatory, and cost-effective means of managing potentially at-risk species. To raise awareness of potentially at-risk species and to foster their proactive conservation, the NMFS created a `species of concern' list in April 2004 (69 FR 19975). `Species of concern' are species that are potentially at risk of becoming threatened or endangered or may potentially require protections under the ESA, yet for which sufficient data are lacking. The species-of-concern status carries no procedural or regulatory protections under the ESA. The list of species of concern and descriptions of each species are available at http://www.nmfs.noaa.gov/pr/species/concern/#list). Under this solicitation, the NMFS is seeking to provide federal assistance, in the form of grants or cooperative agreements, to support conservation efforts for the current list of marine and anadromous species of concern. Any state, territorial, Tribal or local entity that has regulatory or management authority over one or more species of concern is eligible to apply to this grant program. This document describes how to submit proposals for funding in fiscal year (FY) 2007 and how the NMFS will determine which proposals will be funded.

Funding Availability: This solicitation announces that approximately $500,000 may be available for distribution in FY 2008 under the PSCP; there are no restrictions on minimum or maximum funding requests. Actual funding availability for this program is contingent upon Fiscal Year 2008 Congressional appropriations. Applicants are hereby given notice that funds have not yet been appropriated for this program. There is no guarantee that sufficient funds will be available to make awards for all qualified projects. Publication of this notice does not oblige the NMFS to award any specific project or to obligate any available funds; and, if an application is selected for funding, the NMFS has no obligation to provide any additional funding in connection with that award in subsequent years. Notwithstanding verbal or written assurance that may have been received, pre-award costs are not allowed under the award unless approved by the Grants Officer.

Statutory Authority: 16 U.S.C. 661.

Catalog of Federal Domestic Assistance (CFDA) Number: 11.472, Unallied Science Program.

Application Deadline: Applications submitted through Grants.gov must be received by 5 p.m. Eastern Time on February 12, 2008. Hard copy applications must be postmarked by February 12, 2008.

Address for Submitting Proposals: Applications should be submitted online through the Grants.gov Web site at http://grants.gov. If online submission is not possible, paper applications may be mailed to NOAA/NMFS/Office of Protected Resources, Attn: Dwayne Meadows, NMFS Office of Protected Resources F/PR3, 1315 East-West Highway, SSMC3, Silver Spring, MD 20910.

Information Contacts: If you have any questions regarding this proposal solicitation, please contact Dwayne Meadows at the NMFS Office of Protected Resources F/PR3, Endangered Species Division, 1315 East-West Highway, Silver Spring, MD 20910, by phone at 301-713-1401 x199, or by email at Dwayne.Meadows@noaa.gov. You may also contact one of the following people in your region for further guidance: Kim Damon-Randall, Northeast Regional Office (Kimberly.Damon-Randall@noaa.gov, 978-281-9300 x6535), Alex Meyer, Southeast Regional Office (Alex.Meyer@noaa.gov, 727-824-5312), Krista Graham, Pacific Islands Regional Office (Krista.Graham@noaa.gov, 808-944-2238), Melissa Neuman, Southwest Regional Office (Melissa.Neuman@noaa.gov, 562-980-4115), Scott Rumsey, Northwest Regional Office (Scott.Rumsey@noaa.gov, 503-872-2791), Brad Smith, Alaska Regional Office (Brad.Smith@noaa.gov, 907-271-3023).

Eligibility: Eligible applicants are U.S. state, territorial, tribal, or local governments that have regulatory or management authority over one or more SOC or activities that affect one or more SOC. A current list of SOC can be found at http://www.nmfs.noaa.gov/pr/species/concern/#list or obtained from the Office of Protected Resources (see Full Funding Opportunity, section G, Agency Contacts). Applicants are not eligible to submit a proposal under this program if they are a federal employee; however, federal employees may serve as Cooperators. In addition, NMFS employees are not allowed to actively engage in the preparation of proposals or write letters of support for any application. However, if applicable, NMFS employees can write a letter verifying that they are collaborating with a particular project. NMFS contacts (see Full Funding Opportunity, section G, Agency Contacts) are available to provide information regarding programmatic goals and objectives associated with the PSCP, other ongoing ESA programs, regional funding priorities, and, along with other Federal Program Officers, can provide information on application procedures and completion of required forms.

Cost Sharing Requirements: There are no cost-sharing or matching requirements under this solicitation.

Intergovernmental Review: Applications submitted by state and local governments are subject to the provisions of Executive Order 12372, “Intergovernmental Review of Federal Programs.” Any applicant submitting an application for funding is required to complete item 16 on SF-424 regarding clearance by the State Single Point of Contact (SPOC) established as a result of EO 12372. To find out about and comply with a State's process under EO 12372, the names, addresses and phone numbers of participating SPOC's are listed in the Office of Management and Budget's home page at: http://www.whitehouse.gov/omb/grants/spoc.html.

National Ocean Service (NOS)

FY 2008 Gulf of Mexico Alliance Governors' Action Plan Implementation

Summary Description: The purpose of this notice is to solicit proposals for cooperative agreements between NOAA and partnering entities from Gulf of Mexico States to implement Action Blueprint Steps identified in the Gulf of Mexico Alliance Governors' Action Plan. Proposals submitted in response to this announcement should contribute to the beneficial public outcomes associated with the five priority issues in the NOAA Plan: Water quality for healthy beaches and shellfish beds; wetland and coastal conservation and restoration; environmental education; identification and characterization of Gulf habitats; and nutrient reduction as well as Coastal Community Resiliency, a priority issue elevated by the Alliance since release of the Plan. Beneficial public outcomes can include (among many other possibilities) reduced social disruptions and storm resilient economies; improved fisheries production, increased storm damages reduction from wetland buffers, and improved water quality with the natural filtering from wetland processes; less harmful algal blooms and beach closures. This competition is focused on the geography of the Gulf of Mexico in response to NOAAs development of the Gulf of Mexico Alliance implementation plan and subsequent congressional appropriations. The program priorities for this opportunity support NOAAs mission support goal of: Weather and Water Serve Society's Needs for Weather and Water Information.

Funding Availability: Total anticipated funding for all awards is approximately $4,500,000 and is subject to the availability of FY 2008 appropriations. Multiple awards are anticipated from this announcement. The anticipated federal funding per award (min-max) is approximately $750,000 to $1,000,000 per year. The anticipated number of awards ranges from five (5) to seven (7), approximately, and will be adjusted based on available funding. The intent is to award a minimum of one grant to each Gulf coast state.

Statutory Authority: Statutory authority for this program is provided under Coastal Zone Management Act, 16 U.S.C. 1456c (Technical Assistance); 33 U.S.C. 883d; and 33 U.S.C. 1442 (Research program investigating possible long-range effects of pollution, overfishing, and anthropogenically-induced changes of ocean ecosystems).

Catalog of Federal Domestic Assistance (CFDA) Number:11.473, Coastal Services Center.

Application Deadline: Letters of Intent (LOIs) must be received by the Coastal Services Center by 4 p.m. ET on January 10, 2008. Full proposals must be received no later than 4 p.m. ET, February 8, 2008. An LOI must be submitted to be able to submit a full proposal.

Address for Submitting Proposals: Letters of intent (LOI) may be sent via e-mail to GOMA.fy2008@noaa.gov. Insert “FY 2008 Gulf of Mexico Alliance Governors' Action Plan Implementation” as the subject line of the e-mail. If hard copy LOIs are submitted, an original and two copies should be sent to the attention of James Lewis Free, NOAA Coastal Services Center, 2234 South Hobson Avenue, Charleston, South Carolina 29405-2413. Full proposal application packages, including any letters of support, should be submitted through Grants.gov. If an applicant does not have Internet access, one set of originals (signed) and two copies of the proposals and related forms should be mailed to the attention of James Lewis Free, NOAA Coastal Services Center, 2234 South Hobson Avenue, Charleston, South Carolina 29405-2413. No e-mail or fax copies will be accepted.

Information Contacts: For administrative questions, contact James Lewis Free, NOAA CSC; 2234 South Hobson Avenue, Room B-119; Charleston, South Carolina 29405-2413, or by phone at 843-740-1185, or by fax 843-740-1224, or via e-mail at James.L.Free@noaa.gov. For technical questions regarding this announcement, contact Todd Davison, NOAA CSC; 2234 South Hobson Avenue, Charleston, South Carolina 29405-2413, or by phone at 770-486-0028 Extension 214, or by fax 770-486-0930, or via e-mail at Todd.Davison@noaa.gov.

Eligibility: Because this competition is focused on the geography of the Gulf of Mexico in response to NOAAs development of the Gulf of Mexico Alliance implementation plan and subsequent congressional appropriations, eligible funding applicants are institutions of higher education, regional or watershed authorities, nonprofit organizations, and state and Indian tribal governments from the Gulf States (Alabama, Florida, Georgia, Louisiana, Mississippi, and Texas). Federal agencies are not allowed to receive funds under this announcement but may serve as collaborative project partners and may contribute services in kind.

Cost Sharing Requirements: N.A.

Intergovernmental Review: Funding applications under the Center are subject to Executive Order 12372, Intergovernmental Review of Federal Programs. It is the state agency's responsibility to contact their states Single Point of Contact (SPOC) to find out about and comply with the states process under EO 12372. To assist the applicant, the names and addresses of the SPOCs are listed on the Office of Management and Budget's Web site http://www.whitehouse.gov/omb/grants/spoc.html.

FY08 Bay Watershed Education and Training Program, Adult and Community Watershed Education in the Monterey Bay

Summary Description: The California B-WET Program, Adult and Community Watershed Education, is a competitively based program that supports existing environmental education programs, fosters the growth of new programs, and encourages the development of partnerships among environmental education programs throughout the Monterey Bay watershed. Funded projects provide meaningful watershed education to adults and communities. The term meaningful watershed education is defined as outcome-based programs that educate citizens about their role in protecting water quality and demonstrate behavioral changes that improve water quality and promote environmental stewardship.

Funding Availability: This solicitation announces that approximately $100,000 may be available in FY 2008 in award amounts to be determined by the proposals and available funds. The National Marine Sanctuary Program anticipates that approximately 2-4 grants will be awarded with these funds and that typical project awards will range from $10,000 to $50,000. The California B-WET Program should not be considered a long-term source of funds; applicants must demonstrate how ongoing programs, once initiated, will be sustained. There is not guarantee that sufficient funds will be available to make awards for all qualified projects. The exact amount of funds that may be awarded will be determined in pre-award negotiations between the applicant and NOAA representatives. Publication of this notice does not oblige NOAA to award any specific project or to obligate any available funds. If applicants incur any costs prior to an award being made, they do so at their own risk of not being reimbursed by the government. Notwithstanding verbal or written assurance that may have been received, there is no obligation on the part of NOAA to cover pre-award costs unless approved by the Grants Officer as part of the terms when the award is made.

Statutory Authority: 16 U.S.C. 1440, 15 U.S.C. 1540.

Catalog of Federal Domestic Assistance (CFDA) Number: 11.429, Marine Sanctuary Program.

Application Deadline: Proposals must be received by 5 p.m. Pacific Standard Time on February 14, 2008. Both hard copy and electronic proposals received after that time will not be considered for funding and will be returned to the applicant.

Address for Submitting Proposals: Application packages should be submitted through Grants.gov. If an applicant does not have Internet access, the applicant should send the application package to: Seaberry Nachbar, B-WET Program Manager, Monterey Bay National Marine Sanctuary Office, 299 Foam Street, Monterey, CA 93940.

Information Contacts: Please visit the National Marine Sanctuaries B-WET website for further information at: http://sanctuaries.noaa.gov/BWET or contact Seaberry Nachbar, Monterey Bay National Marine Sanctuary office; 299 Foam Street, Monterey, CA 93940, or by phone at 831-647-4204, or fax to 831-647-4250, or via Internet at seaberry.nachbar@noaa.gov.

Eligibility: Eligible applicants are institutions of higher education, nonprofit organizations, state or local government agencies, and Indian tribal governments. The Department of Commerce/National Oceanic and Atmospheric Administration (DOC/NOAA) is strongly committed to broadening the participation of historically black colleges and universities, Hispanic serving institutions, tribal colleges and universities, and institutions that service underserved areas. The National Marine Sanctuary Program encourages proposals involving any of the above institutions.

Cost Sharing Requirements: No cost sharing is required under this program; however, the National Marine Sanctuary Program strongly encourages applicants to share as much of the costs of the award as possible. Funds from other Federal awards will not be accepted as matching funds. The nature of the contribution (cash versus in-kind) and the amount of matching funds will be taken into consideration in the review process with cash being the preferred method of contribution.

Intergovernmental Review: Applications under this program are not subject to Executive Order 12372, Intergovernmental Review of Federal Programs.

NOAA's National Height Modernization Program

Summary Description: The purpose of this notice is to solicit proposals for grants or cooperative agreements between NOAA and partnering entities in the United States, implementing NOAA's National Height Modernization Program (NHMP). Proposals submitted in response to this announcement should contribute to the beneficial public outcomes associated with the five priority issues in the NOAA Plan; enhancing the vertical component of the National Spatial Reference System (NSRS); enabling users to access the vertical component of the NSRS; outreach and education regarding geospatial issues and activities as they relate to Height Modernization; capacity building and technology transfer as they relate to Height Modernization; coordination, cooperation, and collaboration with other entities to accomplish common goals as they relate to Height Modernization. This competition is focused on the geography of the United States and its territories in response to NOAA's Height Modernization Regional Implementation Plan and subsequent congressional appropriations. The program priorities for this opportunity support NOAA's mission support goal of: Commerce and Transportation; Enable safe, secure, and seamless movement of goods and people in the United States transportation system. Priorities addressing this mission goal also are found frequently to support NOAA's other mission goals: “Improve protection, restoration, and management of coastal and ocean resources through ecosystem-based management; increase understanding of climate variability and change; and improve accuracy and timeliness of weather and water information.”

Funding Availability: Total anticipated funding for all awards is approximately $9,500,000 and is subject to the availability of FY 2008 appropriations. The anticipated federal funding per award (min-max) is approximately $100,000 to $1,200,000 per year. The anticipated number of awards ranges from 10 to 15, approximately, and will be adjusted based on available funding and quantity of awards made by NOAA.

Statutory Authority: Statutory authority for this program is provided under 33 U.S.C. 883a and 33 U.S.C. 883d.

Catalog of Federal Domestic Assistance (CFDA) Number: 11.400, Geodetic Surveys and Services (Applications of the National Geodetic Ref System).

Application Deadline: Letters of Intent (LOIs) must be received by the National Ocean Service by 4 p.m. ET on January 10, 2008. Full proposals must be received no later than 4 p.m. ET, February 11, 2008. A LOI must be submitted to be able to submit a full proposal.

Address for Submitting Proposals: A letter of intent (LOI) must be sent via e-mail to Gilbert.Mitchell@noaa.gov. Applicants submitting a LOI should reference the Funding Opportunity Title (FY 2008 NOAAs National Height Modernization Program) as the subject line of the e-mail containing the LOI. If an applicant does not have Internet access, the applicant must submit through surface mail one original and two copies of the LOI to the National Ocean Service. Any U.S. Postal Service correspondence should be sent to the attention of James Gilbert Mitchell at 1315 East-West Highway, N/NGS1, Room 9356, SSMC3, Silver Spring, MD 20910. Full proposal application packages should be submitted through Grants.gov. If an applicant does not have Internet access, the applicant must submit through surface mail one set of originals (signed) and two copies of the proposals and related forms to the National Ocean Service. Any U.S. Postal Service correspondence should be sent to the attention of Gilbert Mitchell at 1315 East-West Highway, N/NGS1, Room 9356, SSMC3, Silver Spring, MD 20910.

Information Contacts: For administrative questions, contact Gilbert Mitchell, NOAA NOS, SSMC3; 1315 East-West Highway, Silver Spring, MD 20910, or by phone at 301-713-3228 extension 114, or by fax 301-713-4176, or via e-mail at Gilbert.Mitchell@noaa.gov. For technical questions regarding this announcement, contact Renee Shields, NOAA NOS SSMC3; 1315 East-West Highway, Silver Spring, MD 20910; or contact her by phone at 301-713-3231 extension 115, or by fax 301-713-4176, or via e-mail at Renee.Shields@noaa.gov.

Eligibility: Eligible funding applicants are institutions of higher education, state, local and Indian tribal governments.

Cost Sharing Requirements: There is no requirement for cost sharing.

Intergovernmental Review: Funding applications under the National Ocean Service are subject to Executive Order 12372, Intergovernmental Review of Federal Programs. It is the state agency's responsibility to contact their state's Single Point of Contact (SPCO) to find out about and comply with the state's process under EO 12372. To assist the applicant, the names and addresses of the SPOCs are listed on the Office of Management and Budget's web site http://www.whitehouse.gov/omb/grants/spoc.html.

National Weather Service (NWS)

Hydrologic Research

Summary Description: This program represents a NOAA/NWS effort to create a cost-effective continuum of basic and applied research through collaborative research between the Hydrology Laboratory of the NWS Office of Hydrologic Development and academic communities or other private or public agencies which have expertise in the hydrometeorologic, hydrologic, and hydraulic routing sciences, as well as those aspects of social sciences that apply to hydrologic and water resources forecasting and how information on those forecasts is distributed and assimilated by managers and the public. These activities will engage researchers and students in basic and applied research to improve the scientific understanding of river forecasting. Ultimately these efforts will improve the accuracy of forecasts and warnings of rivers and flash floods by applying scientific knowledge and information to NWS research methods and techniques, resulting in a benefit to the public. NOAA's program is designed to complement other agency contributions to that national effort.

Funding Availability: Because of Federal budget uncertainties, it has not been determined how much money will be available through this announcement. It is also uncertain exactly when the funding from the Federal budget will be available. It is expected that up to two awards will be made, depending on availability of funds and quality of the proposals.

Statutory Authority: Authority for the Hydrologic Research programs is provided by Weather Service Organic Act, 15 U.S.C. 313, and 33 U.S.C. 883d.

Catalog of Federal Domestic Assistance (CFDA) Number:11.462, Hydrologic Research.

Application Deadline: Proposals are due no later than 3 p.m. Eastern Standard Time January 28, 2008. We anticipate that a review of proposals will be completed during January and February, 2008, and funding should begin during spring 2008 for most approved projects. June 1, 2008, should be used as the proposed start date on proposals. Applicants should be notified of their status within 3 months of the closing date.

Address for Submitting Proposals: Applications should be submitted through http://www.grants.gov. For applicants without internet access, or Federal agencies without access to www.grants.gov, please submit three copies to: Pedro Restrepo, NOAA/NWS 1325 East-West Highway, Room 8176; Silver Spring, Maryland 20910-3283. No facsimile or e-mail copies will be accepted.

Information Contacts: The point of contact is Pedro Restrepo, NOAA/NWS/W-OHD1; 1325 East-West Highway, Room 8176; Silver Spring, Maryland 20910-3283, or by phone at 301-713-0640 ext. 210, or fax to 301-713-0963, or via internet at Pedro.Restrepo@noaa.gov.

Eligibility: Eligible applicants are Federal agencies; institutions of higher education; other nonprofits; commercial organizations; foreign governments; organizations under the jurisdiction of foreign governments; international organizations; state, local and Indian tribal governments. Applications from non-Federal and Federal applicants will be competed against each other. Proposals selected for funding from non-Federal applicants will be funded through a project grant or cooperative agreement under the terms of this notice. Proposals selected for funding from NOAA scientists shall be effected by an intra-agency fund transfer. Proposals selected for funding from a non NOAA Federal agency will be funded through an interagency transfer. PLEASE NOTE: Before non NOAA Federal applicants may be funded, they must demonstrate that they have legal authority to receive funds from another Federal agency in excess of their appropriation. Because this announcement is not proposing to procure goods or services from applicants, the Economy Act (31 U.S.C. 1535) is not an appropriate legal basis.

Cost Sharing Requirements: A matching share is not required by this program.

Intergovernmental Review: Applications under this program are not subject to Executive Order 12372, “Intergovernmental Review of Federal Programs.”

National Weather Service MSI Program

Summary Description: The NWS is soliciting projects to be conducted by university investigators for 1-year to 3-years, with an anticipated start date of August 1, 2008. The NWS MSI Program represents an NOAA/NWS effort to promote and increase diversity in the atmospheric and related sciences through collaborative research between operational forecasters and academic institutions which have expertise in the environmental sciences in support of the NOAA Weather and water mission goal. These activities will engage researchers and students in applied research of interest to the operational meteorological community and will result in the development of new educational opportunities for the public.

Funding Availability: This funding opportunity announces that approximately $50,000 will be available through this announcement for fiscal year 2008. Proposals should be prepared assuming an annual budget up to $50,000. No award less than $25,000 will be made. It is expected that one to two awards will be made, depending on availability of funds.

Statutory Authority: Authority for the MSI program is provided by the following: 15 U.S.C. 313; 49 U.S.C. 44720(b); 33 U.S.C. 883d; 15 U.S.C. 2904; 15 U.S.C. 2934.

Catalog of Federal Domestic Assistance (CFDA) Number:11.468, Applied Meteorological Research.

Application Deadline: Applications must be received by the NWS no later than 5 p.m., EST on February 29, 2008.

Address for Submitting Proposals: Proposals must be submitted through grants.gov, unless an applicant does not have internet access. In that case, hard copy applications may be sent to Sam Contorno, 1325 East-West Highway, Room 15330, Silver Spring, MD 20910. Proposals may not be e-mailed or faxed.

Information Contacts: Contact Sam Contorno, NOAA/NWS; 1325 East-West Highway, Room 15330; Silver Spring, Maryland 20910-3283, or by phone at 301-713-3557 ext. 150, or fax to 301-713-1253, or via Internet at samuel.contorno@noaa.gov.

Eligibility: Minority Serving Institutions eligible to submit proposals include institutions of higher education identified by the Department of Education as: (i) Historically Black Colleges and Universities, (ii) Hispanic-Serving Institutions, (iii) Tribal Colleges and Universities, or (iv) Alaska Native or Native Hawaiian Serving Institutions on the most recent United States Department of Education Accredited Post-Secondary Minority Institutions list (at the date of publication of this announcement). Proposals will not be accepted from non-profit organizations, foundations, auxiliary services or any other entity on behalf of MSIs.

Cost Sharing Requirements: No cost sharing is required under this program.

Intergovernmental Review: Applications under this program are not subject to Executive Order 12372, Intergovernmental Review of Federal Programs.

Oceanic and Atmospheric Research (OAR)

2008 Regional Research, Information Planning and Coordination

Summary Description: To continue the development of regional research and information plans for U.S. coastal, ocean, and Great Lakes areas, NOAA Sea Grant anticipates (depending on appropriations) making available about $750,000 in FY 2008 for grants to regional planning teams in the following three regions: the Greater New York Bight region, the Mid-Atlantic region, and the Caribbean region. It is expected that Sea Grant programs within each of these regions will work together and submit one proposal per region that covers a 2-5 year period. The objective is to use Sea Grant's university capabilities to facilitate discussions among the broad range of regional ocean, coastal, and Great Lakes stakeholders to help identify and prioritize critical resource management problems and associated research and information needs necessary for practical solutions. Depending on appropriations and the number and quality of applications received, NOAA Sea Grant anticipates making three awards of between $250,000 and $400,000 each.

Funding Availability: Depending on appropriations, a total of $250,000 of federal Sea Grant funds will be made available for each eligible region over two years to cover the completion of a regional research and information plan (assuming appropriations are available). Proposals may request up to an additional three years of staff support (up to $50,000 per region per year) to help implement completed regional plans. The maximum support requested for an individual application is $400,000, of which no more than $250,000 can be for the first two years of the proposed project. Additional support may be made available in subsequent competitions for regional research and outreach activities. Approximately three awards will be made in FY 2008. It is expected that multiple Sea Grant Programs and institutions will be involved in each region, and that they will designate in their application a single managing Sea Grant Program, to whom the grant award would be made. All other participating Sea Grant Programs and institutions must be handled through subawards.

Statutory Authority: Authority for the Regional Research, Information Planning and Coordination is provided by 33 U.S.C. 1121 et seq., as amended. Catalog of Federal Domestic Assistance (CFDA) Number(s): 11.417, Sea Grant Support.

Catalog of Federal Domestic Assistance (CFDA) Number:11.417, Sea Grant Support.

Application Deadline: Applications must be received by 4 p.m. EST, February 5, 2008.

Address for Submitting Proposals: Applications are to be submitted through grants.gov, under Federal Funding Opportunity number OAR-SG-2008-2001255. Applicants without internet access may submit a hard copy application, but must include documentation stating their lack of internet access. Hard copy applications (one UNBOUND original and one copy) should be submitted to: Mrs. Geri Taylor, National Sea Grant College Program, R/SG, Attn: Regional Research Competition, Room 11841, NOAA, 1315 East-West Highway, Silver Spring, MD 20910 (phone number for express mail applications is 301-734-1066.) Faxed or e-mailed applications will not be accepted.

Information Contacts: Contact Dr. Leon M. Cammen, Director, National Sea Grant College Program, 1315 East-West Highway, R/SG, Rm 11841, Silver Spring, MD 20910; tel: (301) 734-1088; e-mail: oar.hq.nsgo.competitions@noaa.gov.

Eligibility: Proposals may be submitted only by the designated managing Sea Grant College or Institutional Program.

Cost Sharing Requirements: Matching funds equal to at least 50 percent of the Federal funding must be provided to support the proposed regional planning.

Intergovernmental Review: Applications under this program are not subject to Executive Order 12372, `Intergovernmental Review of Federal Programs.'

Ballast Water Management Demo (RDTE Facility)

Summary Description: The Ballast Water Management Demonstration Program supports projects to develop, test, and demonstrate ballast water treatment methods in order to reduce the threat of introduction of aquatic invasive species to U.S. waters through the discharge of ballast water. THIS SOLICITATION IS ONLY FOR COOPERATIVE AGREEMENTS TO ESTABLISH AND MAINTAIN A RESEARCH, DEVELOPMENT, TESTING AND EVALUATION (RDTE) FACILITY. There is a separate FFO for technologies and practices development (Funding Opportunity Number: OAR-SG20082001206).

Funding Availability: Depending on FY2008 appropriations and the quality of proposals, NOAA expects to make available up to about $1 million in 2008 funds for four-year cooperative agreements to create and operate ballast water RDTE facilities. We anticipate making 1 or 2 multiyear awards in FY2008. Depending on future year appropriations and satisfactory execution of the terms of the cooperative agreement, NOAA anticipates funding up to $1,250,000 over the next four years for each successful award.

Statutory Authority: 16 U.S.C. 4701 et seq.; 33 U.S.C. 1121-1131.

Catalog of Federal Domestic Assistance (CFDA) Number: 11.417, Sea Grant Support.

Application Deadline: Preliminary proposals must be received by the National Sea Grant Office by 4 p.m. EST February 21, 2008. Full proposals must be received by 4 p.m. EDT April 24, 2008. Only those who submit preliminary proposals meeting the preliminary proposal deadline and other requirements of this notice are eligible to submit full proposals.

Address for Submitting Proposals: Preliminary proposals should be submitted by hardcopy (one unbound original and one copy) to Mrs. Geri Taylor, National Sea Grant College Program, R/SG, Attn: Ballast Water Competition, Room 11841, NOAA, 1315 East-West Highway, Silver Spring, MD 20910, telephone 301-734-1072. Full Proposals must be submitted through Grants.gov unless the applicant does not have Internet access or is a Federal agency without access to Grants.gov, in which case they should be submitted to the above address. Any application that includes an appendix B (oversize documents) must submit appendix B in hardcopy to the above address.

Information Contacts: Dorn Carlson, National Sea Grant Office, NOAA, Room 11828, 1315 East-West Highway, Silver Spring, MD, 20910, or via e-mail at ballast.water@noaa.gov. Prospective applicants with questions about this announcement should ask the Agency Contact in writing (e-mail preferred). All questions (without attribution) and any answers provided will be made available to all applicants who request to be kept informed, either by e-mail or by posting them on a Web site, or, for applicants without e-mail access, by conventional mail. To be kept informed of questions and responses prior to the preproposal deadline, send an e-mail to ballast.water@noaa.gov, and ask to be kept informed of all questions and responses concerning Federal Funding Opportunity number OAR-SG-2008-2001279. Applicants without Internet access please send your request by mail to the above mailing address. After the preproposal deadline, all applicants who submitted preproposals by the preproposal deadline will be informed of any questions and responses, unless they ask not to be so informed.

Eligibility: Eligible applicants are individuals, institutions of higher education, nonprofit organizations, for-profit organizations, Federal, State, local and Indian tribal governments, foreign governments, organizations under the jurisdiction of foreign governments, and international organizations. Applications from non-Federal and eligible Federal applicants (including NOAA employees) will be evaluated in the same selection process. Note: Before non-NOAA Federal applicants may be funded, they must demonstrate that they have legal authority to receive funds from another Federal agency in excess of their appropriation. Because this announcement is not proposing to procure goods or services from applicants, the Economy Act (31 U.S.C. 1535) is not an appropriate legal basis. Only those who submit preliminary proposals by the preliminary proposal deadline are eligible to submit full proposals.

Cost Sharing Requirements: Applications for RDTE facility cooperative agreements must include additional non-federal matching funds equal to at least 20% of the total NOAA funds requested over the duration of the cooperative agreement. In-kind contributions are eligible to satisfy the match requirement. Matching funds for each individual year need not equal a 20% match of that year's request, as long as the total matching funds for the duration of the cooperative agreement meet the 20% match requirements for the total request amount.

Intergovernmental Review: Applications under this Program are not subject to Executive Order 12372, “Intergovernmental Review of Federal Programs.”

Ballast Water Management Demonstration Program (Technologies and Practices)

Summary Description: “The Ballast Water Management Demonstration Program supports projects to develop, test, and demonstrate ballast water technologies and practices in order to reduce the threat of introduction of aquatic invasive species to U.S. waters through the discharge of ballast water. This FFO is for projects dealing with technologies and practices necessary for successful ballast water management. For example, this could include technologies or practices that treat ballast water, or that make it possible to test, evaluate, regulate or use ballast water treatment technologies or practices. There is a separate FFO for establishing a Research, Development, Testing and Evaluation (RDTE) Facility (Funding Opportunity Number: OAR-SG-2008-2001279).”

Funding Availability: Depending on 2008 appropriations, NOAA expects to make available up to $1 million in FY 2008, and the U.S. Maritime Administration (MARAD) expects to make available several vessels for use as test platforms, to support ballast water management demonstration projects. Depending on the funding available and the number and quality of proposals received, we anticipate between 3 and 6 grants with a median value of about $200,000 will be awarded, and about one applicant will have certain expenses associated with verification testing at an ETV facility paid for.

Statutory Authority: 16 U.S.C. 4701 et seq.; 33 U.S.C. 1121-1131; 46 U.S.C. App 1211 (2000); 50 U.S.C. App 1744 (2000).

Catalog of Federal Domestic Assistance (CFDA) Number:11.417, Sea Grant Support.

Application Deadline: Letters of Intent must be received by the National Sea Grant Office by 4 p.m. EST February 21, 2008. Full proposals must be received by 4 p.m. EDT April 3, 2008. Only those applicants who submit Letters of Intent by the preliminary proposal deadline and who submit LOIs that meet the other requirements of this notice are eligible to submit full proposals.

Address for Submitting Proposals: Letters of Intent must be submitted by hard copy to Mrs. Geri Taylor, National Sea Grant College Program, R/SG, Attn: Ballast Water Competition, Room 11841, NOAA, 1315 East-West Highway, Silver Spring, MD 20910 (phone number for express mail LOIs is 301-734-1066). Full Proposals must be submitted through grants.gov (Web site html://grants.gov) to Funding Opportunity Number: OAR-SG-2008-2001206. Applicants without internet access may submit one unbound original hard copy of the proposal, but must submit documentation demonstrating their inability to use grants.gov. Facsimile and electronic mail transmissions of proposals will not be accepted for either Letters of Intent or Full Proposals.

Information Contacts: Dorn Carlson, NOAA National Sea Grant Office, 301-734-1080; via electronic mail at ballast.water@noaa.gov. Carolyn Junemann, U.S. Maritime Administration, 202-366-1920; via electronic mail at carolyn.junemann@dot.gov.

Eligibility: Eligible applicants are individuals, institutions of higher education, nonprofit organizations, for-profit organizations, Federal, State, local and Indian tribal governments, foreign governments, organizations under the jurisdiction of foreign governments, and international organizations. Applications from non-Federal and eligible Federal applicants (including NOAA and MARAD employees) will be evaluated in the same selection process. Note: Before non-NOAA Federal applicants may be funded, they must demonstrate that they have legal authority to receive funds from another Federal agency in excess of their appropriation. Because this announcement is not proposing to procure goods or services from applicants, the Economy Act (31 U.S.C. 1535) is not an appropriate legal basis. Only those who submit Letters of Intent by the Letters of Intent deadline are eligible to submit full proposals.

Cost Sharing Requirements: Cost sharing or matching funds is NOT required. However, any such funding (direct or indirect) offered by the Applicant will be considered in the Evaluation Criteria of Project Costs.

Intergovernmental Review: Applications under this program are not subject to Executive Order 12372, “Intergovernmental Review of Federal Programs.”

Office of the Under Secretary (USEC)

Environmental Literacy Grants for Formal K-12 Education

Summary Description: The NOAA Office of Education (OED) is issuing a request for applications for environmental literacy projects in support of K-12 education. Funded projects will be between one and five years in duration and will promote changes in K-12 education to expand the amount of Earth System Science taught in the classroom and improve student learning of that subject. Successful projects will catalyze change in K-12 education through development of new programs and materials and/or revision of existing programs and materials by supporting transformative methods: Those practices (which are not necessarily new) that are likely to increase the environmental literacy of K-12 teachers and their students by increasing the amount of Earth System Science taught in grades K-12. This federal funding opportunity meets NOAA's Mission Goal to understand climate variability and change to enhance society's ability to plan and respond. For any questions concerning this funding opportunity, please visit our FAQ Web site www.oesd.noaa.gov/elg_faqs.html before contacting the Office of Education.

Funding Availability: NOAA anticipates the availability of approximately $4,000,000 of Federal financial assistance in FY 2009 and FY2010 for K-12 education projects. Approximately 5 to 7 awards in the form of grants or cooperative agreements will be made. NOAA will only consider projects that have duration of 1 to 5 years. The total Federal amount for all years that may be requested from NOAA for the direct and indirect costs of the proposed project shall not exceed $750,000. The minimum Federal amount that must be requested from NOAA for all years for the direct and indirect costs is $200,000. Applications requesting Federal support from NOAA of less than $200,000 total or more than $750,000 total for the duration of the project will not be considered for funding. The amount of funding available through this announcement will be dependent upon the final FY09 and FY10 appropriations. Publication of this announcement does not obligate NOAA to award any specific project or to obligate all or any part of the available funds. It is likely that there will be no additional solicitation issued for these projects for FY10. If an applicant incurs any costs prior to receiving an award agreement signed by an authorized NOAA Grants Officer, the applicant would do so solely at one's own risk of such costs not being included under the award. The exact amount of funds that may be awarded will be determined in pre-award negotiations between the applicant and NOAA representatives.

Statutory Authority: Authority for the Environmental Literacy Grants for Formal K-12 Education program is provided by the following: 33 U.S.C. 892a(a).

Catalog of Federal Domestic Assistance (CFDA) Number:11.469, Congressionally Identified Awards and Projects.

Application Deadline: Preliminary proposals (pre-proposals) are required for submission of a full application and must be received by 5 p.m., EST, February 20, 2008. Applicants who submit a pre-proposal will receive notification authorizing submission of a full application on or about April 30, 2008. Please contact Stacey Rudolph if you have not heard from the Office of Education by May 14, 2008. The full applications must be received by 5 p.m., EDT, June 25, 2008.

Address for Submitting Proposals: Pre-proposals must be submitted through Grants.gov (http://www.grants.gov). It is strongly suggested that Grants.gov be accessed using a PC and Internet Explorer for maximum compatibility. If an applicant does not have Internet access, one hard copy must be mailed to ATTN: ELG Competition Manager, DOC/NOAA, Office of Education, 1401 Constitution Avenue, NW., Room 6863, Washington, DC 20230; Telephone: 202-482-3384. Full applications must be submitted through Grants.gov (http://www.grants.gov). If an applicant does not have Internet access, one hard copy should be sent to ATTN: ELG Competition Manager, DOC/NOAA Office of Education, 1401 Constitution Avenue, NW., Room 6863, Washington, DC 20230; Telephone: 202-482-3384. If submitting a hard copy, applicants are also requested to provide a CD-ROM of the full application, including scanned signed forms or forms with electronic signatures. Facsimile or e-mail transmissions of full applications will not be accepted. Please note: Hard copies of pre-applications or full applications submitted via the U.S. Postal Service can take up to 4 weeks to reach this office; applicants are recommended to send hard copies via expedited shipping methods (e.g., Airborne Express, DHL, FedEx, UPS, etc.). Facsimile or e-mail transmissions of pre-proposals will not be accepted.

Information Contacts: Please visit the OEd Web site for further information at http://www.oesd.noaa.gov/funding_opps.html or contact Sarah Schoedinger at 704.370.3528 or Sarah.Schoedinger@noaa.gov or Stacey Rudolph at 202.482.3739 or Stacey.Rudolph@noaa.gov. For those applicants without Internet access, hard copies of referenced documents may be requested from NOAA's Office of Education by contacting Stacey Rudolph at 202.482.3739 or sending a letter to Stacey Rudolph, DOC/NOAA Office of Education, 1401 Constitution Avenue, NW., Room 6863, Washington, DC 20230.

Eligibility: Eligible applicants are institutions of higher education, for-profit and nonprofit organizations, and state, local and Indian tribal governments in the United States. Among those eligible applicants are K through 12 public and independent schools and school systems, and science centers and museums. Foreign institutions, foreign organizations and foreign government agencies are not eligible to apply. Federal agencies are not eligible to receive Federal assistance under this announcement, but may be project partners. Individuals not connected to an institution are ineligible to apply for funding under this announcement. The Department of Commerce/National Oceanic and Atmospheric Administration (DOC/NOAA) is strongly committed to increasing the participation of Minority Serving Institutions (MSIs), i.e., Historically Black Colleges and Universities, Hispanic-serving institutions, Tribal colleges and universities, Alaskan Native and Native Hawaiian institutions, and institutions that work in underserved communities. Applications are encouraged that involve any of the above types of institutions. An applicant may serve only once as principal investigator (PI) through this funding opportunity. However institutions may submit more than one application and individuals may serve as co-PIs or key personnel on more than one application.

Cost Sharing Requirements: There are no cost-sharing requirements.

Intergovernmental Review: Applications under this program are not subject to Executive Order 12372, Intergovernmental Review of Federal Programs (refer to item 19 on the grants.gov version of the SF-424).

III. Classification

Limitation of Liability

Funding for potential projects in this notice is contingent upon the availability of Fiscal year 2008 appropriations. Applicants are hereby given notice that funds have not yet been appropriated for any proposed activities in this notice. In no event will NOAA or the Department of Commerce be responsible for proposal preparation costs. Publication of this announcement does not oblige NOAA to award any specific project or to obligate any available funds.

Universal Identifier

Applicants should be aware that, for programs which have deadline dates on or after October 1, 2003, they may be required to provide a Dun and Bradstreet Data Universal Numbering System (DUNS) number during the application process. See the October 30, 2002 Federal Register, Vol. 67, No. 210, pp. 66177-66178 for additional information. Organizations can receive a DUNS number at no cost by calling the dedicated toll-free DUNS Number request line at 1-866-705-5711 or via the Internet (http://www.dunandbradstreet.com).

National Environmental Policy Act (NEPA)

NOAA must analyze the potential environmental impacts, as required by the National Environmental Policy Act (NEPA), for applicant projects or proposals which are seeking NOAA federal funding opportunities. Detailed information on NOAA compliance with NEPA can be found at the following NOAA NEPA Web site: http://www.nepa.noaa.gov/, including our NOAA Administrative Order 216-6 for NEPA, http://www.nepa.noaa.gov/NAO216-6-TOC.pdf, NEPA Questionnaire, http://www.nepa.noaa.gov/questionnaire.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

Compliance With Department of Commerce Bureau of Industry and Security Export Administration Regulations

(a) This section applies to the extent that this BAA results in financial assistance awards involving access to export-controlled information or technology.

(b) In performing a financial assistance award, the recipient may gain access to export-controlled information or technology. The recipient will then be responsible for compliance with all applicable laws and regulations regarding export-controlled information and technology, including deemed exports. The recipient shall establish and maintain throughout performance of the financial assistance award effective export compliance procedures at non-NOAA facilities. At a minimum, these export compliance procedures must include adequate controls of physical, verbal, visual, and electronic access to export-controlled information and technology.

(c) Definitions.

(1) Deemed export. The Export Administration Regulations (EAR) define a deemed export as any release of technology or source code subject to the EAR to a foreign national, both in the United States and abroad. Such release is “deemed” to be an export to the home country of the foreign national. 15 CFR 734.2(b)(2)(ii).

(2) Export-controlled information and technology. Export-controlled information and technology is information and technology subject to the EAR (15 CFR parts 730 et seq.), implemented by the DOC Bureau of Industry and Security, or the International Traffic I Arms Regulations (ITAR) (22 CFR parts 120-130), implemented by the Department of State, respectively. This includes, but is not limited to, dual-us items, defense articles and any related assistance, services, software or technical data as defined in the EAR and ITAR.

(d) The recipient shall control access to all export-controlled information and technology that it possesses or that comes into its possession in performance of a financial assistance award, to ensure that access is restricted, or licensed, as required by applicable Federal laws, Executive Orders, and/or regulations.

(e) Nothing in the terms of this section is intended to change, supersede, or waive any of the requirements of applicable Federal laws, Executive Orders or regulations.

(f) The recipient shall include this clause, including this paragraph (f), in all lower tier transactions (subawards, contracts, and subcontracts) under the financial assistance award that may involve access to export-controlled information technology.

NOAA Implementation of Homeland Security Presidential Directive—12

If the performance of a financial assistance award, if approved by NOAA, requires recipients to have physical access to Federal premises for more than 180 days or access to a Federal information system, any items or services delivered under a financial assistance award shall comply with the Department of Commerce personal identity verification procedures that implement Homeland Security Presidential Directive-12, FIPS PUB 201, and the Office of Management and Budget Memorandum M-05-24. The recipient shall insert this clause in all subawards or contracts when the subaward recipient or contractor is required to have physical access to a Federally controlled facility or access to a Federal information system.

The Department of Commerce Pre-Award Notification Requirements for Grants and Cooperative Agreements.

The Department of Commerce Pre-Award Notification Requirements for Grants and Cooperative Agreements contained in the Federal Register notice of December 30, 2004 (69 FR 78389) are applicable to this solicitation.

Paperwork Reduction Act

This document contains collection-of-information requirements subject to the Paperwork Reduction Act (PRA). The use of Standard Forms 424, 424A, 424B, SF LLL, CD-346, SF 424 Research and Related Family, SF 424 Short Organizational Family, SF 424 Individual Form family has been approved by the Office of Management and Budget (OMB) under the respective control numbers 4040-0004, 0348-0044, 0348-0040, 0348-0046, 0605-0001, 4040-0001, 4040-0003, and 4040-0005. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis has not been prepared.

Dated: December 18, 2007.
Helen Hurcombe,
Director, Acquisition and Grants Office, National Oceanic and Atmospheric Administration.

[FR Doc. 07-6224 Filed 12-26-07; 8:45 am]

BILLING CODE 3510-12-P